DEPARTMENT OF DEFENSE

Office of the Secretary

[Docket ID DOD-2009-OS-0106]

Privacy Act of 1974; System of Records

AGENCY: Office of the Secretary, DoD.

ACTION: Notice to alter a system of records.

SUMMARY: The Office of the Secretary of Defense is proposing to alter DHRA 02 systems of records notice in its existing inventory of record systems subject to the Privacy Act of 1974, (5 U.S.C. 552a), as amended.

DATES: This proposed action will be effective without further notice on August 19, 2009 unless comments are received which result in a contrary determination.

ADDRESSES: Send comments to the Privacy Act Officer, Freedom of Information Directorate, Washington Headquarters Services, 1155 Defense Pentagon, Washington, DC 20301-1155.

FOR FURTHER INFORMATION CONTACT: Mrs. Cindy Allard at (703) 588-6830.

SUPPLEMENTARY INFORMATION: The Office of the Secretary of Defense systems of records notices subject to the Privacy Act of 1974, (5 U.S.C. 552a), as amended, have been published in the Federal Register and are available from the address above.

The proposed system report, as required by 5 U.S.C. 552a(r) of the Privacy Act of 1974, as amended, was submitted on July 13, 2009 to the House Committee on Oversight and Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: July 13, 2009.
Morgan E. Frazier,
Alternate OSD Federal Register Liaison Officer, Department of Defense.

DHRA 02

System Name:

PERSEREC Research Files (November 29, 2002, 67 FR 69205).

Changes:

* * * * *

Categories of individuals covered by the system:

Delete entry and replace with “Present and former Executive branch civilian employees, military members, contractor employees and all others who have had or applied for security clearances, positions with the Federal government that require background investigations, or government identification cards that would grant them access to information technology systems and/or unescorted access to government facilities.”

Categories of records in the system:

Delete entry and replace with “Applications, adjudication information, and records identifying people authorized to hold Federal positions of trust, granted access, or access eligibility to sensitive information, facilities, materials, or systems.

Results of record checks to meet investigative standards or accomplish continuous evaluation, such as checks addressing criminal history, financial behavior, employment, education, investigative, immigration, pay and personnel records, records of foreign travel and foreign contacts, and asset ownership.

Information in this system includes background investigation reports; reference interview documentation, recommendations, and comments; dates and reports of subject interviews; results of subject interrogatories; security violations; data relating to misuse of information technology systems; pre-employment investigations reports and results of record checks required to test new investigative sources.

Dates and types of past investigations, access granted based on qualifying investigations, denials, revocations, debarments, administrative actions, and other adverse actions based on adjudication of investigations; and responses from personnel security-related interviews.

Data is also derived from responses to questions contained on future, current, and prior personnel security related questionnaires. Agency Use Block (AUB) question responses include type of investigation requested, case number, extra coverage/advance results, sensitivity level, access/eligibility, nature and date of action, geographic location, position code and title, Submitting Office Number (SON), location of official personnel folder, Security Office Identifier (SOI), use of the Intra-governmental Payment and Collection (IPAC) system, Treasury Account Symbol (TAS), obligating document number, Business Event Type Code (BETC), investigative requirement, requesting officials' name, title, email address, phone number, and applicant affiliation.

Data derived from responses to questions contained on future, current, and prior personnel security related questionnaires provided by filers include name, Social Security Number (SSN); current home address, telephone number, home e-mail, cell/mobile phone number; date and place of birth, gender, other names used, citizenship, mother's maiden name; U.S. passport number and issue date, alien registration number, previous addresses and dates of residence.

Educational data on schools and dates of attendance; conduct information that include, disciplinary actions, transcripts, commendations, degrees, certificates, subject's explanations regarding education conduct.

References that consist of name, current address, phone number, and e-mail address.

Current and previous employment information that consists of employer name, dates employed, address; name and phone number of supervisor. Conduct information that includes disciplinary actions, dates and reason for termination; performance evaluation; and subject's explanations regarding employment conduct. Employment reference names, current address, phone number and e-mail address.

Selective Service record, military history, and conduct information.

Responses from questionnaires that include the individual's physical description of height, weight, hair, and eye color. Date of marriage, separation, and divorce information including spouse or cohabitant name, Social Security Number (SSN), date and place of birth, citizenship of spouse, former spouse, or cohabitant. Relative's names, relationship, date, place of birth, citizenship, and current addresses.

Foreign contact and activities information that include names, dates of individuals known, country(ies) of citizenship, country of residence, type and nature of contact, financial interests, assets, benefits from foreign governments.

Additionally, responses to questions about the respondent's mental health and emotional health are in this system. Information that pertains to police records, use of alcohol, other illegal drugs, and use of information technology systems.

U.S. and foreign finance and real estate information that consists of names of financial institutions, number of accounts held, monthly and year-end account balances for bank and investment accounts, address, year of purchase and price, capital investment costs, lease or rental information, year of lease or rental, and monthly payments.

Information on leased vehicles, boats, airplanes and other U.S. and foreign assets that include type, make model/year, plate or identification number, year leased, monthly rental payment; year of purchase and price, and year-end fair market value.

U.S. and foreign mortgages, loans, and liabilities information that consist of type of loan, name and address of creditor, original balance, monthly and year-end balance, monthly payment, payment history, and name and address of institution where safe deposit box is located.”

Authority for maintenance of the system:

Delete entry and replace with “E.O. 13467, Reforming Processes Related to Suitability for Government Employment, Fitness for Contractor Employees, and Eligibility for Access to Classified National Security Information; E.O. 12968, Access to Classified Information; 50 U.S.C. 781-887, Internal Security Act of 1950; E.O. 10450, Security Requirements for Government Employment; E.O. 10865, Safeguarding Classified Information Within Industry; E.O. 12333, United States Intelligence Activities; E.O. 13470, Further Amendments to Executive Order 12333; E.O. 12958, Classified National Security Information; 5 U.S.C. 9101, Access to Criminal History Information for National Security and Other Purposes; and 5 U.S.C. 301, Departmental Regulations, which authorizes DoD Directive 5200.2-R, DoD Personnel Security Program Regulation, Memorandum of Agreement assigning mission and support functions to the Defense Personnel Security Research Center between the Under Secretary of Defense for Personnel and Readiness and the Assistant Secretary of Defense for Command, Control, Communications and Intelligence dated 8/12/2000, and E.O. 9397 (SSN).”

Purpose(s):

Delete entry and replace with “To perform research, development, and analyses for: (1) Evaluating and improving DoD and Federal personnel security and other background vetting procedures, programs, and policies; (2) assisting in providing training, instruction, advice on personnel security, and continuing reliability of subjects for DoD Components and other elements of the Federal government; (3) encouraging cooperative research within and among DoD Components, the Intelligence Community, and the Executive branch on the projects having DoD or Federal government-wide implications in order to avoid duplication; (4) addressing items of special interest to personnel security officials within DoD Components, the Intelligence Community, and the Executive branch; and (5) identifying areas in the personnel security, suitability, fitness, and military accessions fields that warrant more intense scrutiny; and (6) conducting personnel security, suitability, and fitness pilot test projects.”

Routine uses of records maintained in the system, including categories of users and the purposes of such uses:

Delete entry and replace with “In addition to those disclosures generally permitted under 5 U.S.C. 552a(b) of the Privacy Act of 1974, these records contained therein may specifically be disclosed outside the DoD as a routine use pursuant to 5 U.S.C. 552a(b)(3) as follows:

To Federal, State, and local government agencies, if necessary, to obtain information from them, which will assist PERSEREC in identifying areas in the personnel security field that may warrant more training, instruction, research, or intense scrutiny. This would typically involve obtaining nationwide statistical data or relevant information at the unit or individual level on a specific security issue (i.e., financial, criminal, alcohol, etc.) or set of issues that could be used to assist an investigator or adjudicator in evaluating an individual's conduct.

To Federal Bureau of Investigation and U.S. Office of Personnel Management counterintelligence personnel to assist them with their investigations and inquires.

To the Office of Personnel Management and other Federal government agencies responsible for conducting background investigations in order to provide them with information relevant to their inquiries and investigations.

The DoD `Blanket Routine Uses' set forth at the beginning of the OSD compilation of systems of records notices apply to this system.”

* * * * *

Storage:

Delete entry and replace with “Paper records maintained in file folders and electronic storage media.”

Retrievability:

Delete entry and replace with “Records may be retrieved by name and Social Security Number (SSN).”

Safeguards:

Delete entry and replace with “Records are stored under lock and key, in secure containers, or on electronic media with intrusion safeguards. Access to these investigative and clearance records (although usually not classified) is limited only to staff who have a need to know, who have been investigated, granted the requisite security clearance eligibility level, and who have been advised as to both the sensitivity of these records and of their responsibility for safeguarding the information contained in them from unauthorized disclosure.”

* * * * *

Record access procedures:

Delete entry and replace with “Individuals seeking access to information about themselves contained in this system of records should address written inquires to the Office of the Secretary of Defense/Joint Staff Freedom of Information Act Requester Service Center, Office of Freedom of Information, 1155 Defense Pentagon, Washington, DC 20301-1155.

The individual should include the name and number of this system of records notice and provide sufficient proof of identity such as, full name, Social Security Number (SSN), and/or date and place of birth. The request must be signed.”

* * * * *

Record source categories:

Delete entry and replace with “The individual. Information is also obtained from the Defense Clearance and Investigative Index, military records, DoD civilian employment and military personnel records, Office of Personnel Management Records, Defense Security Service records, records of the Departments of Justice and Treasury, other commercial and government sources providing personnel security-relevant information.”

* * * * *

DHRA 02

System name:

PERSEREC Research Files.

System location:

Defense Personnel Security Research Center, 99 Pacific Street, Building 455E, Monterey, CA 93940-2481;

Defense Manpower Data Center, 400 Gigling Road, Seaside, CA 93955-6771; and

Data Center, Naval Postgraduate School, Spanagel Hall, 833 Dyer Road, Monterey, CA 93943-5216.

Categories of individuals covered by the system:

Present and former Executive branch civilian employees, military members, contractor employees and all others who have had or applied for security clearances, positions with the Federal government that require background investigations, or government identification cards that would grant them access to information technology systems and/or unescorted access to government facilities.

Categories of records in the system:

Applications, adjudication information, and records identifying people authorized to hold Federal positions of trust, granted access, or access eligibility to sensitive information, facilities, materials, or systems.

Results of record checks to meet investigative standards or accomplish continuous evaluation such as checks addressing criminal history, financial behavior, employment, education, investigative, immigration, pay and personnel records, records of foreign travel and foreign contacts, and asset ownership.

Information in this system includes background investigation reports; reference interview documentation, recommendations, and comments; dates and reports of subject interviews; results of subject interrogatories; security violations; data relating to misuse of information technology systems; pre-employment investigations reports and results of record checks required to test new investigative sources.

Dates and types of past investigations, access granted based on qualifying investigations, denials, revocations, debarments, administrative actions, and other adverse actions based on adjudication of investigations; and responses from personnel security-related interviews.

Data is also derived from responses to questions contained on future, current, and prior personnel security related questionnaires. Agency Use Block (AUB) question responses include type of investigation requested, case number, extra coverage/advance results, sensitivity level, access/eligibility, nature and date of action, geographic location, position code and title, Submitting Office Number (SON), location of official personnel folder, Security Office Identifier (SOI), use of the Intra-governmental Payment and Collection (IPAC) system, Treasury Account Symbol (TAS), obligating document number, Business Event Type Code (BETC), investigative requirement, requesting officials' name, title, email address, phone number, and applicant affiliation.

Data derived from responses to questions contained on future, current, and prior personnel security related questionnaires provided by filers includes information from responses include name, Social Security Number (SSN); current home address, telephone number, home e-mail, cell/mobile phone number; date and place of birth, gender, other names used, citizenship, mother's maiden name; U.S. passport number and issue date, alien registration number, previous addresses and dates of residence.

Educational data on schools and dates of attendance; conduct information that include, disciplinary actions, transcripts, commendations, degrees, certificates, subject's explanations regarding education conduct.

References that consist of name, current address, phone number, and e-mail address.

Employment information on current and previous employment that consists of name of employer, dates employed, address, name, and phone number of supervisor. Conduct information that include disciplinary actions dates and reason for termination; performance evaluation; and subject's explanations regarding employment conduct. Employment references names, current address, phone number and e-mail address. Selective Service record, military history, and conduct information.

Responses from questionnaires that include the individual's physical description of height, weight, hair, and eye color. Date of marriage, separation, and divorce information including spouse or cohabitant name, Social Security Number (SSN), date and place of birth, citizenship of spouse, former spouse, or cohabitant. Relative's names, relationship, date, place of birth, citizenship, and current addresses.

Foreign contact and activities information that include names, dates of individuals known, country(ies) of citizenship, country of residence, type and nature or contact, financial interests, assets, benefits from foreign governments.

Additionally, responses to questions about the respondent's mental health and emotional health are in this system. Information that pertain to police records, use of alcohol, other illegal drugs, and use of information technology systems.

U.S. and foreign finance and real estate information that consist of names of financial institutions, number of accounts held, monthly and year-end account balances for bank and investment accounts, address, year of purchase and price, capital investment costs, lease or rental information, year of lease or rental, and monthly payments.

Information on leased vehicles, boats, airplanes and other U.S. and foreign assets that include type, make model/year, plate or identification number, year leased, monthly rental payment; year of purchase and price, and year-end fair market value.

U.S. and foreign mortgages, loans, and liabilities information that consist of type of loan, name and address of creditor, original balance, monthly and year-end balance, monthly payment, payment history, and name and address of institution where safe deposit box is located.

Authority for maintenance of the system:

E.O. 13467, Reforming Processes Related to Suitability for Government Employment, Fitness for Contractor Employees, and Eligibility for Access to Classified National Security Information; E.O. 12968, Access to Classified Information; 50 U.S.C. 781-887, Internal Security Act of 1950; E.O. 10450, Security Requirements for Government Employment; E.O. 10865, Safeguarding Classified Information Within Industry; E.O. 12333, United States Intelligence Activities; E. O. 13470, Further Amendments to Executive Order 12333; E.O. 12958, Classified National Security Information; 5 U.S.C. 9101, Access to Criminal History Information for National Security and Other Purposes; and 5 U.S.C. 301, Departmental Regulations, which authorizes DoD Directive 5200.2-R, DoD Personnel Security Program Regulation, Memorandum of Agreement assigning mission and support functions to the Defense Personnel Security Research Center between the Under Secretary of Defense for Personnel and Readiness and the Assistant Secretary of Defense for Command, Control, Communications and Intelligence dated 8/12/2000; and E.O. 9397 (SSN).

Purpose(s):

To perform research, development, and analyses for: (1) Evaluating and improving DoD and Federal personnel security and other background vetting procedures, programs, and policies; (2) assisting in providing training, instruction, advice on personnel security, and continuing reliability of subjects for DoD Components and other elements of the Federal government; (3) encouraging cooperative research within and among DoD Components, the Intelligence Community, and the Executive branch on the projects having DoD or Federal government-wide implications in order to avoid duplication; (4) addressing items of special interest to personnel security officials within DoD Components, the Intelligence Community, and the Executive branch; and (5) identifying areas in the personnel security, suitability, fitness, and military accessions fields that warrant more intense scrutiny; and (6) conducting personnel security, suitability, and fitness pilot test projects.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

To Federal, State, and local government agencies, if necessary, to obtain information from them, which will assist PERSEREC in identifying areas in the personnel security field that may warrant more training, instruction, research, or intense scrutiny. This would typically involve obtaining nationwide statistical data or relevant information at the unit or individual level on a specific security issue (i.e., financial, criminal, alcohol, etc.) or set of issues that could be used to assist an investigator or adjudicator in evaluating an individual's conduct.

To Federal Bureau of Investigation and U.S. Office of Personnel Management counterintelligence personnel to assist them with their investigations and inquires.

To the Office of Personnel Management and other Federal government agencies responsible for conducting background investigations in order to provide them with information relevant to their inquiries and investigations.

The DoD `Blanket Routine Uses' set forth at the beginning of the OSD compilation of systems of records notices apply to this system.

Policies and practices for storing, retrieving, accessing, retaining, and disposing of records in the system:

Storage:

Paper records maintained in file folders and electronic storage media.

Retrievability:

Records may be retrieved by name and Social Security Number (SSN).

Safeguards:

Records are stored under lock and key, in secure containers, or on electronic media with intrusion safeguards. Access to these investigative and clearance records (although usually not classified) is limited only to staff who have a need to know, who have been investigated, granted the requisite security clearance eligibility level, and who have been advised as to both the sensitivity of these records and of their responsibility for safeguarding the information contained in them from unauthorized disclosure.

Retention and disposal:

Disposition pending (until the National Achieves Records Administration (NARA) disposition is approved, treat as permanent).

System manager(s) and address:

Director, Defense Personnel Security Research Center, 99 Pacific Street, Building 455E, Monterey, CA 93940-2481.

Notification procedure:

Individuals seeking to determine whether information about themselves is contained in this system should address written inquiries to the Director, Defense Personnel Security Research Center, 99 Pacific Street, Building 455E, Monterey, CA 93940-2481.

The individual should provide sufficient proof of identity such as, full name, Social Security Number (SSN), date and place of birth.

Record access procedures:

Individuals seeking access to information about themselves contained in this system of record should address written inquires to the Office of the Secretary of Defense/Joint Staff Freedom of Information Act Requester Service Center, Office of Freedom of Information, 1155 Defense Pentagon, Washington, DC 20301-1155.

The individual should include the name and number of this system of record notice and provide sufficient proof of identity such as, full name, Social Security Number (SSN), and/or date and place of birth. The request must be signed.

Contesting record procedures:

The OSD rules for accessing records, for contesting contents and appealing initial agency determinations are published in OSD Administrative Instruction 81; 32 CFR part 311; or may be obtained from the system manager.

Record source categories:

The individual. Information is also obtained from the Defense Clearance and Investigative Index, military records, DoD civilian employment and military personnel records, Office of Personnel Management Records, Defense Security Service records, records of the Departments of Justice and Treasury, other commercial and government sources providing personnel security-relevant information.

Exemptions claimed for the system:

Investigative material compiled solely for the purpose of determining suitability, eligibility, or qualifications for Federal civilian employment, military service, Federal contracts, or access to classified information may be exempt pursuant to 5 U.S.C. 552a(k)(5), but only to the extent that such material would reveal the identity of a confidential source.

An exemption rule for this system has been promulgated in accordance with requirements of 5 U.S.C. 553(b)(1), (2), and (3), (c) and (e) published in 32 CFR part 311. For additional information contact the system manager.

[FR Doc. E9-17150 Filed 7-17-09; 8:45 am]

BILLING CODE 5001-06-P